DEPARTMENT OF COMMERCE

Foreign-Trade Zones Board

[B-12-2017]

Foreign-Trade Zone (FTZ) 29—Louisville, Kentucky Authorization of Production Activity; Hitachi Automotive Systems Americas, Inc., (Automotive Fuel Injection Assemblies); Harrodsburg, Kentucky

On February 6, 2017, The Louisville and Jefferson County Riverport Authority, grantee of FTZ 29, submitted a notification of proposed production activity to the FTZ Board on behalf of Hitachi Automotive Systems Americas, Inc. (Hitachi), within Subzone 29F, in Harrodsburg, Kentucky.

The notification was processed in accordance with the regulations of the FTZ Board (15 CFR part 400), including notice in the Federal Register inviting public comment (82 FR 11342, February 22, 2017). On June 5, 2017, the applicant was notified of the FTZ Board's decision that no further review of the activity is warranted at this time. The production activity described in the notification was authorized, subject to the FTZ Act and the FTZ Board's regulations, including Section 400.14.

Dated: June 13, 2017.
Andrew McGilvray,
Executive Secretary.

[FR Doc. 2017-12654 Filed 6-16-17; 8:45 am]

BILLING CODE 3510-DS-P